DEPARTMENT OF THE INTERIOR

National Park Service

[NPS-WASO-NAGPRA-NPS0039248; PPWOCRADN0-PCU00RP14.R50000]

Notice of Intended Repatriation: Brooklyn Children's Museum, Brooklyn, NY

AGENCY: National Park Service, Interior.

ACTION: Notice.

SUMMARY: In accordance with the Native American Graves Protection and Repatriation Act (NAGPRA), the Brooklyn Children's Museum intends to repatriate certain cultural items that meet the definition of sacred objects and objects of cultural patrimony and that have a cultural affiliation with the Indian Tribes or Native Hawaiian organizations in this notice.

DATES: Repatriation of the cultural items in this notice may occur on or after January 29, 2025.

ADDRESSES: Kiani Kodama and Kate Mirand Calleri, Brooklyn Children's Museum, 145 Brooklyn Avenue, Brooklyn, NY 11213, telephone (718) 735-4400, email kkodama@brooklynkids.org and kcalleri@brooklynkids.org.

SUPPLEMENTARY INFORMATION: This notice is published as part of the National Park Service's administrative responsibilities under NAGPRA. The determinations in this notice are the sole responsibility of the Brooklyn Children's Museum, and additional information on the determinations in this notice, including the results of consultation, can be found in the summary or related records. The National Park Service is not responsible for the determinations in this notice.

Abstract of Information Available

A total of five cultural items have been requested for repatriation by the Onondaga Nation of NY. The five sacred objects of cultural patrimony are false face masks and rattles.

Miniature Cornhusk Mask (object number 66.87.4), False Face Mask (object number 66.87.7), Miniature Cornhusk Mask (object number 66.113.3), Snapping Turtle Claw Rattles (object number 67.86.3ab), and False Face Mask (object number 59.1) are listed in Brooklyn Children's Museum records as “Onondaga.” The items were reportedly acquired in North America and gifted to or purchased by Brooklyn Children's Museum between 1959-1982. Brooklyn Children's Museum records indicate no known hazardous substances.

Determinations

The Brooklyn Children's Museum has determined that:

• The five sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Onondaga Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 29, 2025. If competing requests for repatriation are received, the Brooklyn Children's Museum must determine the most appropriate requestor prior to repatriation. Requests for joint repatriation of the cultural items are considered a single request and not competing requests. The Brooklyn Children's Museum is responsible for sending a copy of this notice to the Indian Tribes and Native Hawaiian organizations identified in this notice and to any other consulting parties.

Authority: Native American Graves Protection and Repatriation Act, 25 U.S.C. 3004 and the implementing regulations, 43 CFR 10.9.

Dated: December 19, 2024.
Melanie O'Brien,
Manager, National NAGPRA Program.

[FR Doc. 2024-31285 Filed 12-27-24; 8:45 am]

BILLING CODE 4312-52-P